DEPARTMENT OF ENERGY

[GDO Docket No. EA-453-A]

Application for Renewal of Authorization To Export Electric Energy; Matador Power Marketing, Inc.

AGENCY: Grid Deployment Office, Department of Energy.

ACTION: Notice of application.

SUMMARY: Matador Power Marketing, Inc. (the Applicant or Matador Power) has applied for renewed authorization to transmit electric energy from the United States to Canada pursuant to the Federal Power Act.

DATES: Comments, protests, or motions to intervene must be submitted on or before June 7, 2023.

ADDRESSES: Comments, protests, motions to intervene, or requests for more information should be addressed by electronic mail to Electricity.Exports@hq.doe.gov.

FOR FURTHER INFORMATION CONTACT: Christina Gomer, (240) 474-2403, electricity.exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export. (16 U.S.C. 824a(e)). On June 13, 2022, the authority to issue such orders was delegated to the DOE's Grid Deployment Office (GDO) under Delegation Order No. S1-DEL-S3-2022-2 and Redelegation Order No. S3-DEL-GD1-2022.

On June 28, 2018, DOE issued Order No. EA-453 authorizing Matador Power to transmit electric energy from the United States to Canada as a power marketer. On February 27, 2023, Matador Power filed an application with DOE (Application or App) for renewal of their export authority for an additional five-year term. App at 1.

In its Application, Matador Power states that it “does not have any affiliates or upstream owners that possess any ownership interest or involvement in any other company that is a traditional utility or that owns, operates, or controls any electric generation, transmission or distribution facilities.” App at 2. Matador Power represents that it “will purchase power to be exported from a variety of sources such as power marketers, independent power producers, or U.S. electric utilities and federal power marketing entities as those terms are defined in Sections 3(22) and 3(19) of the FPA.” App at 3. Matador Power also states “[b] y definition, such power is surplus to the system of the generator and, therefore, the electric power that Matador Power will export on either a firm or interruptible basis will not impair the sufficiency of the electric power supply within the U.S.” Id.

The existing international transmission facilities to be utilized by the Applicant have been previously authorized by Presidential permits issued pursuant to Executive Order 10485, as amended, and are appropriate for open access transmission by third parties. See App at Exhibit C.

Procedural Matters: Any person desiring to be heard in this proceeding should file a comment or protest to the Application at the email address provided previously. Protests should be filed in accordance with Rule 211 of FERC's Rules of Practice and Procedure (18 CFR 385.211). Any person desiring to become a party to this proceeding should file a motion to intervene at the email address provided previously in accordance with FERC Rule 214 (18 CFR 385.214).

Comments and other filings concerning COP's Application should be clearly marked with GDO Docket No. EA-453-A. Additional copies are to be provided directly to Ruta Kalvaitis Skučas and Jennifer L. Mersing, K&L Gates LLP, 1601 K St. NW, Washington, DC 20006, ruta.skucas@klgates.com and jennifer.mersing@klgates.com, and Diana Stoica, Matador Power Marketing, Inc., 50 Carroll Street Toronto, ON, M4M 3G3 Canada, rtdesk@matadorpm.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications or by emailing Electricity.Exports@hq.doe.gov.

Signing Authority: This document of the Department of Energy was signed on May 1, 2023, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 3, 2023.
Treena V. Garrett,
Federal Register Liaison Officer, U.S. Department of Energy.

[FR Doc. 2023-09742 Filed 5-5-23; 8:45 am]

BILLING CODE 6450-01-P